FEDERAL EMERGENCY MANAGEMENT AGENCY

44 CFR Part 67

[Docket No. FEMA-B-7401]

Proposed Flood Elevation Determinations

AGENCY: Federal Emergency Management Agency (FEMA).

ACTION: Proposed rule.

SUMMARY: Technical information or comments are requested on the proposed base (1-percent-annual-chance) flood elevations and proposed base flood elevation modifications for the communities listed below. The base flood elevations and modified base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the table below.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The Federal Emergency Management Agency proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Associate Director for Mitigation certifies that this proposed rule is exempt from the requirements of the Regulatory Flexibility Act because proposed or modified Base Flood Elevations are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/country | Source of flooding | Location | # Depth in feet above ground. * Elevation in feet. (NGVD): Existing | # Depth in feet above ground. * Elevation in feet. (NGVD): Modified
California | Solano County (Unincorporated Areas) | Gibson Canyon Creek | Approximately 2,250 feet downstream of Byrnes Road | None | *69
|  |  | Approximately 100 feet upstream of Browns Valley Road | None | *143
|  | South Branch Gibson Canyon Creek | Just downstream of Crocker Drive | *103 | *102
|  |  | Just upstream of Browns Valley Road | *137 | *142
|  | Horse Creek | Approximately 500 feet downstream of Willow Avenue | None | *77
|  |  | Approximately 1,500 feet upstream of Willow Avenue | None | *79
Maps are available for inspection at the Solano County Department of Environmental Management, 601 W. Texas Street, Fairfield, California.
Send comments to The Honorable Michael Johnson, County Manger, 580 W. Texas Street, Fairfield California, 94533.
California | Vacaville (City) Solano County | Gibson Canyon Creek | Approximately 2,100 feet downstream of Interstate Highway 80 (Eastbound) | *76 | *78
|  |  | Approximately 1,200 feet upstream of Eubanks Road | None | *113
|  | South Branch Gibson Canyon Creek | At confluence with Gibson Canyon Creek | *98 | *98
|  |  | At intersection with Interstate Highway 505 | *104 | *103
|  |  | Approximately 500 feet upstream of Eubanks Road | *117 | *121
|  | Horse Creek | Approximately 800 feet downstream of Leisure Town Road | *80 | *82
|  |  | Approximately 2,000 feet upstream of Sewer Maintenance Road | *134 | *137
|  | Middle Branch Horse Creek | Just upstream of Interstate Highway 80 | *90 | *91
|  |  | Approximately 2,200 feet upstream of Interstate Highway 505 | None | *112
|  | Pine Tree Creek | At confluence with Horse Creek | *98 | *97
|  |  | At upstream side of Putah South Canal | *114 | *122
|  |  | Just downstream of Browns Valley Road | *136 | *136
|  |  | At Browns Valley Road Crossing of Southern Pacific Railroad | #3 | #2
|  | South Branch Horse Creek | At confluence with Horse Creek | *119 | *114
|  |  | Just downstream of Southern Pacific Railroad | 132 | *134
|  |  | Just downstream of Sundance Drive | *134 | #2
|  | Middle Swale to South Branch | At confluence with South Branch Horse Creek | *120 | *122
|  | Horse Creek | Just downstream of Southern Pacific Railroad | *133 | *131
|  |  | Just upstream of Southern Pacific Railroad | None | #1
|  | North Branch Horse Creek | At confluence with Horse Creek | None | *83
|  |  | At downstream side of Interstate Highway 80 | None | *88
|  | Pine Tree Creek Split | At convergence with Pine Tree Creek | None | *122
|  |  | Approximately 1,100 feet upstream of convergence with Pine Tree Creek | None | *125
Maps are available for inspection at the Vacaville City Hall, 650 Merchant Street, Vacaville, California.
Send comments to The Honorable David Fleming, Mayor, City of Vacaville, 650 Merchant Street, Vacaville, California 95688.
Colorado | Durango (City) La Plata County | Animas River | Approximately 0.67 mile downstream of U.S. Highway 155/160 | None | *6,375
|  |  | Approximately 3.56 miles upstream of 32nd Street | None | *6,551
|  | Dry Gulch | Approximately 1,500 Feet upstream of confluence with Junction Creek | *6,626 | *6,628
|  |  | Approximately 5,670 feet upstream of Borrego Drive | None | *6,873
|  | Lightner Creek | At confluence with Animas River | None | *6,485
|  |  | Approximately 1,800 feet upstream of confluence with Animas River | None | *6,513
Maps are available for inspection at the Planning Department, 1235 Camino Del Rio, Durango, Colorado.
Send comments to The Honorable Joe Golgan, Mayor, City of Durango, 949 E. 2nd Avenue, Durango, Colorado 81301.
Colorado | La Plata County (Unincorporated Areas) | Animas River | Approximately 2.09 miles downstream of U.S. Highway 155/160 | None | *6,337
|  |  | Approximately 2.8 miles upstream of 32nd Street | *6,550 | *6,548
|  |  | Approximately 3.56 miles upstream of 32nd Street | *6,551 | *6,551
|  | Lightner Creek | At confluence with Animas River | *6,485 | *6,484
|  |  | Approximately 3,525 feet upstream of U.S. Highway 160 | *6,703 | *6,699
Maps are available for inspection at the Building Department, 1060 E. 2nd Avenue, Durango, Colorado.
Send comments to The Honorable Frank Joswick, Chairman, La Plata County Board of Commissioners, 1060 E. 2nd Avenue, Durango, Colorado 81301.
Iowa | Monona County and Incorporated Areas | Missouri River | Approximately 5.3 miles Downstream of the McCandless Cleghorn outlet | None | *1,032
|  |  | Approximately 17.9 miles upstream of Iowa Highway 175 | None | *1,065
|  |  | At its confluence with the Missouri River | None | *1.039
|  | McCandless Cleghorn Drainage Ditch
|  |  | At County Highway 45 | None | *1.063
Maps are available for inspection at the Monona County Zoning Office, 610 Iowa Avenue, Onawa, Iowa.
Send comments to The Honorable Neil Gorham, Chairman, Monona County Board of Supervisors, 610 Iowa Avenue, Onawa, Iowa 51040.
Maps are available for inspection at Whiting City Hall, 605 Whittier Street, Whiting, Iowa.
Send comments to The Honorable Jerry Rowe, Mayor, City of Whiting, City Hall, 605 Whittier Street, Whiting, Iowa 51063.
Kansas | Andover (City) (Butler County) | Four Mile Creek | Approximately 12.9 miles upstream of confluence with Walnut River | *1,275 | *1,266
|  |  | Approximately 17.5 miles upstream of confluence with Walnut River | *1,289 | *1,288
|  | Four Mile Creek Tributary | Just upstream of 110th Street | None | *1,287
|  |  | Approximately 9,850 feet upstream of confluence with Four Mile Creek | None | *1,312
|  | Republican Creek | At approximately 1.3 miles upstream of confluence with Four Mile Creek | *1,267 | *1,266
|  |  | At downstream side of Andover Road | None | *1,338
|  | Republican Creek Tributary | Approximately 1,900 feet downstream of U.S. Highway 54 | None | *1,290
|  |  | Just upstream of U.S. Highway 54 | None | *1,300
|  | North Tributary of Republican Creek | Approximately 500 feet downstream of Andover Road | None | *1,341
|  |  | Just upstream of Andover Road | None | *1,343
|  | Terradyne Fork | Approximately 2,500 feet upstream of confluence with Four Mile Creek | None | *1,320
|  |  | Approximately 7,300 feet upstream of confluence with Four Mile Creek | None | *1,348
Maps are available at City Hall, 909 North Alexander Road, Andover, Kansas.
Send comments to The Honorable Dennis L. Bush, Mayor, City of Andover, P.O. Box 295, Andover, Kansas 67002.
Kansas | Augusta (City) (Butler County) | Elm Creek (above Augusta Lake | At mouth at Augusta Lake | None | *1,263
|  |  | Approximately 1,900 feet upstream of Augusta Lake Road | None | *1,269
Maps are available at City Hall, 116 East Sixth Street, Augusta, Kansas.
Send comments to The Honorable Ross Rountree, Mayor, City of Augusta, P.O. Box 489, Augusta, Kansas 67010.
Kansas | Butler County (Unincorporated Areas) | Constant Creek | At confluence with Walnut River | *1,270 | *1,270
|  |  | Just upstream of Atchison, Topeka, and Sante Fe Raiway | *1,274 | *1,278
|  |  | At downstream side of Interstate Highway 35/Kansas Turnpike | None | *1,335
|  | Dry Creek | At mouth of Sante Fe Lake north Limits | None | *1,275
|  |  | Approximately 250 feet downstream of Interstate Highway 35/Kansas Turnpike | None | *1,294
|  | Dry Creek Tributary | At confluence with Dry Creek | None | *1,280
|  |  | At downstream limit of Interstate Highway 35/Kansas Turnpike | None | *1,302
|  | East Tributary to Eight Mile Creek | At confluence with Eight Mile Creek | None | *1,267
|  |  | Approximately 3,600 feet upstream of confluence to East Tributary to Eight Mile Creek | None | *1,313
|  | Tributary to East Tributary to Eight Mile Creek | At confluence with East Tributary to Eight Mile Creek | None | *1,296
|  |  | Approximately 3,000 feet upsteam of confluence with East Tributary to Eight Mile Creek | None | *1,307
|  | West Tributary to Eight Mile Creek | At confluence with Eight Mile Creek | None | *1,288
|  |  | Approximately 6,250 feet upstream of 160th Street | None | *1,311
|  | Tributary to West Tributary to Eight Mile Creek | At confluence with West Tributary to Eight Mile Creek | None | *1,294
|  |  | Approximately 1,500 feet upstream of 160th Street | None | *1,311
|  | Elm Creek (above Augusta Lake) | Approximately 1,700 feet downstream of 70th Street (County Road 614) | None | *1,269
|  |  | Approximately 200 feet downstream of 40th Street (County Road 608) | None | *1,326
|  | Elm Creek—Tributary A | At confluence with Elm Creek | None | *1,316
|  |  | Approximately 2,400 feet upstream of confluence with Elm Creek | None | *1,320
|  | Elm Creek—Tributary B | At confluence with Elm Creek | None | *1,309
|  |  | Approximately 150 feet upstream of Shumway Road | None | *1,329
|  | Elm Creek Tributary C | At confluence with Elm Creek Tributary B | None | *1,312
|  |  | Approximately 4,800 feet upstream of Shumway Road | None | *1,340
|  | Four Mile Creek | Approximately 12 miles upstream of confluence with Walnut River | *1,263 | *1,263
|  |  | Approximately 13.5 miles upstream of confluence with Walnut River | *1,271 | *1,270
|  |  | Approximately 900 feet upstream of 110th Street | *1,290 | *1,289
|  | Four Mile Creek Tributary | At confluence with Four Mile Creek | None | *1,283
|  |  | Approximately 3,000 feet upstream of confluence with Four Mile Creek | None | *1,285
|  | Republican Creek | At confluence with Four Mile Creek | *1,261 | *1,262
|  |  | Approximately 1,000 feet downstream of Andover Road | None | *1,336
|  | Republican Creek Tributary | At confluence with Republican Creek | None | *1,273
|  |  | Approximately 200 feet upstream of 90th Street | None | *1,314
|  | North Tributary to Republican Creek | Just upstream of Andover Road | None | *1,343
|  | Repubilcan Creek | Approximately 3,000 feet upstream of Andover Road | None | *1,354
|  | Tributary to Santa Fe Lake | At Santa Fe Lake | None | *1,276
|  |  | Approximately 100 feet upstream of County Road 612 | None | *1,314
Maps are available at 205 West Central, Third Floor, El Dorado, Kansas.
Send comments to the Honorable Randall Doll, Chairman, Butler County Board of Commissioners, 205 West Central, Fourth Floor, El Dorado, Kansas 67042.
Kansas | Chanute (City) Neosho County | Second Street Channel | Approximately 440 feet downstream of Katy Road | *917 | *917
|  |  | At Highland Avenue | *926 | *924
|  |  | Approximately 60 feet upstream of Wilson Avenue | None | *964
Maps are available for inspection at the Engineering Department, Memorial Building, 101 S. Lincoln, Chanute, Kansas.
Send comments to the Honorable Ed Cox, Mayor, P.O. Box 907, Chanute, Kansas 66720.
| Douglas County (Incorporated Areas) | Atchison, Topeka, and Santa Fe Tributary (Douglas County) | Approximately 300 feet upstream of County Road 1550 North | *817 | +821
|  |  | Approximately 1,300 feet upstream of Atchison, Topeka, and Santa Fe Railway | *826 | +827
|  | Atchison, Topeka, and Santa Fe Tributary (City of Lawrence) | Approximately 1,300 feet upstream of Atchison, Topeka, and Santa Fe Railway | *826 | +827
|  |  | Just upstream of 13th Street | *830 | +831
|  |  | Approximately 600 feet upstream of Leanard Street | *861 | +855
|  | Baldwin Creek (Douglas County) | Approximately 2,500 feet upstream of County Road 900 East | *921 | +922
|  |  | Just downstream of County Road 1800 North | *839 | +840
|  |  | Just upstream of County Road 100 East | *869 | +870
|  | Baldwin Creek Tributary (Douglas County) | Approximately 300 feet downstream of County Road 975 East | *884 | +885
|  |  | Approximately 400 feet upstream of County Road 975 East | *930 | +931
|  | Belle Haven Tributary (Douglas County) | Approximately 300 feet downstream of West 29th Terrace | N/A | +826
|  | Belle Haven Tributary (City of Lawrence) | Approximately 300 feet downstream of West 29th Terrace | N/A | +826
|  |  | Approximately 500 feet upstream of West 29th Terrace | *830 | +829
|  |  | Approximately 350 feet upstream of West 27th Terrace | *838 | +836
|  | Broken Arrow Tributary (City of Lawrence) | Approximately 1,850 feet downstream of Private Drive | *826 | +825
|  |  | Approximately 1,300 feet upstream of Private Drive | *846 | +847
|  | Brook Street Tributary (City of Lawrence) | Just downstream of 13th Street | *829 | +827
|  |  | Approximately 1,100 feet upstream of 15th Street | *844 | +843
|  | Coal Creek (Douglas County) | Approximately 400 feet downstream of County Road 1100 North | *820 | +817
|  |  | Just downstream of County Road 700 North | *859 | +860
|  |  | Approximately 1,900 feet upstream of County Road 600 North | *883 | +884
|  | Coon Creek (Douglas County) | Approximately 200 feet downstream of West Woodson Avenue | N/A | +855
|  | Coon Creek (City of Lecompton) | Approximately 200 feet downstream of West Woodson Avenue | N/A | +855
|  | County Club—Hope Plaza Tributary (Douglas County) | Just downstream of Michigan Street | N/A | +830
|  | County Club—Hope Plaza Tributary (City of Lawrence) | Approximately 850 feet upstream of Complex Road | *833 | +834
|  | Deerfield Tributary (Douglas County) | Just upstream of Kasold Drive | *859 | +856
|  |  | Approximately 1,100 feet upstream of Kansas Turnpike | *859 | +857
|  | Deerfield Tributary (City of Lawrence) | Approximately 1,100 feet upstream of Kansas Turnpike | +859 | *857
|  |  | Just downstream of Princeton Boulevard | *881 | +883
|  | Eudora East Tributary (Douglas County) | Approximately 80 feet upstream of 10th Street | *837 | +840
|  |  | Approximately 1,300 feet upstream of Private Access Road | *841 | +841
|  |  | Approximately 2,800 feet upstream of the Corporate Limit line with the City of Eudora | *864 | +864
|  | Eudora East Tributary (City of Eudora) | Approximately 650 feet upstream of Atchison, Topeka, and Santa Fe Railway | *N/A | +810
|  |  | Approximately 80 feet upstream of 10th Street | *837 | +840
|  |  | Approximately 1,100 feet upstream of Private Access Road | *N/A | +840
|  | Eudora Middle Tributary (Douglas County) | Just downstream of Atchison, Topeka, and Santa Fe Railway | *806 | +807
|  | Eudora Middle Tributary (City of Eudora) | Approximately 100 feet upstream of Atchison, Topeka, and Santa Fe Railway | *807 | +814
|  |  | Just downstream of 10th Street | *819 | +824
|  |  | Approximately 800 feet upstream of 12th Street | *837 | +837
|  | Haskell Tributary (City of Lawrence) | Approximately 150 feet upstream of downstream limit of detailed study | *826 | +823
|  |  | Approximately 100 downstream of the upstream limit of detailed study | *837 | +834
|  | Hidden Valley Tributary (Douglas County) | Just downstream of County Road 1350 North | *834 | +837
|  |  | Just downstream of 23rd Street | *849 | +850
|  |  | Approximately 3,000 feet upstream of 23rd Street | *877 | N/A
|  | Hidden Valley Tributary (City of Lawrence) | Just downstream of County Road 1350 North | *834 | +837
|  |  | Just upstream of 23rd Street | *N/A | +851
|  |  | Approximately 3,000 feet upstream of 23rd Street | *N/A | +871
|  | Kansas River (City of Lawrence) | Approximately 5,500 feet upstream of confluence of Atchison, Topeka, and Santa Fe Railway Tributary | *820 | +820
|  |  | Approximately 200 feet downstream of North 2nd Street | *826 | +827
|  |  | Approximately 6,500 feet upstream of the confluence of Balwin Creek | *836 | +837
|  | Kansas River (Douglas County) | Just downstream of County Road 2172 East | *805 | +807
|  |  | Approximately 5,500 feet upstream of confluence of Atchison, Topeka, and Santa Fe Railway Tributary | *820 | +820
|  |  | Approximately 6,500 feet upstream of the confluence of Baldwin Creek | *836 | +837
|  |  | Approximately 3,500 feet upstream of Eisenhower Memorial Drive | *849 | +848
|  |  | Approximately 300 feet downstream of Douglas County/Shawnee County Line | *862 | +861
|  | Kansas River (City of Lecompton) | Approximately 3,500 feet upstream of Eisenhower Memorial Drive | *849 | +848
|  | Kanwaka Tributary (Douglas County) | Just downstream of Private Drive | *923 | +930
|  |  | Approximately 4,500 feet upstream of Private Drive | *996 | +1,000
|  | KLWN Tributary (City of Lawrence) | Approximately 2,400 feet downstream of West 31st Street | *832 | +833
|  |  | Just downstream of 31st Street | *842 | +843
|  |  | Approximately 2,250 feet upstream of West 31st Street | *863 | +862
|  | Little Wakarusa Creek (Douglas County) | Approximately 200 feet downstream of County Road 2000 East | *810 | +812
|  |  | Approximately 10,500 feet upstream of County Road 2000 East | *815 | +814
|  | Maple Grove Drainage (Douglas County) | Approximately 2,350 feet downstream of Union Pacific Railroad | *814 | +811
|  | Maple Grove Drainage (City of Lawrence) | Approximately 450 upstream of North 9th Street | *819 | +820
|  | Maple Grove Drainage West Fork (Douglas County) | Approximately 1,700 feet upstream of Union Pacific Railroad | *824 | +823
|  |  | Just upstream of County Road 1400 East | *826 | +824
|  | Naismith Creek (Douglas County) | Approximately 2,600 feet upstream of 31st Street | *828 | +826
|  | Naismith Creek (City of Lawrence) | Approximately 1,500 feet downstream of West 27th Street | *829 | +830
|  |  | Approximately 500 feet downstream of West 23rd Street | *847 | +848
|  |  | Just upstream of 21st Street | *864 | +865
|  | North Spring Creek (Douglas County) | Approximately 2,500 feet upstream of County Road 1275 North | *810 | +813
|  | Pleasant Grove East Tributary (Douglas County) | Approximately 2,000 feet downstream of County Road 1100 North | *829 | +830
|  |  | Just downstream of County Road 1400 East | *847 | +850
|  |  | Approximately 500 feet downstream of County Road 1000 North | *879 | +878
|  | Pleasant Grove West Tributary (Douglas County) | Approximately 2,400 feet downstream of County Road 1100 North | *829 | +830
|  |  | Just downstream of County Road 1300 East | *874 | +876
|  |  | Approximately 1,650 feet upstream of County Road 1300 East | *930 | +931
|  | Pleasant Valley Tributary (Douglas County) | Approximately 850 feet downstream of County Road 1300 East | *829 | +830
|  |  | Just upstream of County Road 1100 North | *844 | +845
|  |  | Just downstream of County Road 1200 East | *884 | +894
|  | Quail Creek (Douglas County) | Approximately 2,200 feet upstream of confluence with Yankee Tank Creek | *834 | N/A
|  | Quail Creek (City of Lawrence) | Just downstream of Brush Creek Drive | *839 | +840
|  |  | Approximately 350 downstream of Quail Creek Drive | *866 | +871
|  |  | Approximately 1,000 feet upstream of Quail Creek Drive | *881 | +880
|  | Tauy Creek East Fork (Douglas County) | Approximately 4,450 downstream of County Road 150 North | *978 | +978
|  |  | Just downstream of County Road 200 North | **996 | +996
|  |  | Approximately 1,900 feet downstream of High Street | N/A | +1,003
|  |  | Just Upstream of Highway 56 | **1,025 | +1,030
|  |  | Approximately 450 feet upstream of County Road 1700 East | **1,055 | +1,055
|  | Tauy Creek East Fork (City of Baldwin) | Just upstream of County Road 200 North | N/A | +997
|  |  | Just downstream of Highway 56 | **1,021 | +1,022
|  |  | Approximately 450 feet upstream of County Road 1700 East | N/A | +1,069
|  |  | Approximately 1,900 feet upstream of County Road 1700 East | N/A | +1,055
|  | Tauy Creek East Fork Tributary (Douglas County) | At the confluence with Tauy Creek East Fork | **987 | +988
|  |  | Approximately 750 feet downstream of 6th Street | **994 | +995
|  | Tauy Creek East Fork Trituary (City of Baldwin) | Approximately 750 feet downstream of 6th Street | **994 | +995
|  |  | Approximately 250 feet upstream of Chapel Street | **1,042 | +1,043
|  | Tauy Creek East Fork Tributary A (City of Baldwin) | Approximately 150 feet downstream of 3rd Street | **1,022 | +1,019
|  |  | Approximately 200 feet upstream of 1st Street | **1,042 | +1,042
|  | Tauy Creek East Fork Tribuary B (City of Baldwin) | Approximately 1,000 feet downstream of 3rd Street | **1,004 | +1,004
|  |  | Just downstream of 3rd Street | **1,019 | +1,020
|  | Tauy Creek East Fork Tributary C (City of Baldwin) | Approximately 1,250 feet downstream of 3rd Street | **1,007 | +1,007
|  |  | Approximately 400 feet upstream of High Street | **1,035 | +1,037
|  | Vinland Creek (Douglas County) | Approximately 3,500 feet downstream of County Road 790 North | *839 | +838
|  |  | Just upstream of County Road 700 North | *862 | +864
|  | Vinland Creek West Fork (Douglas County) | Just downstream of County Road 1650 East | *858 | +862
|  |  | Just upstream of County Road 1600 East | *885 | +888
|  | Wakarusa River (Douglas County) | Just downstream of County Road 2172 East | *805 | +807
|  |  | Just upstream of Atchison, Topeka, and Santa Fe Railway | *807 | +808
|  |  | Just upstream of County Road 1900 East | *812 | +813
|  |  | Approximately 1,300 feet upstream of County Road 1750 East | *818 | +815
|  |  | Approximately 3,000 feet upstream of U.S. Highway 59 | *830 | +829
|  |  | Approximately 3,000 feet upstream of County Road 1150 East | *834 | +833
|  | Wakarusa River (City of Eudora) | Just downstream of County Road 2172 East | *805 | +807
|  |  | Just upstream of Atchison, Topeka, and Santa Fe Railway | *807 | +808
|  | Wakarusa River (left overbank flow) (Douglas County) | Approximately 200 feet downstream of Haskell Avenue | *824 | +818
|  |  | Approximately 1,300 feet upstream of County Road 1750 East | *818 | +814
|  |  | Approximately 200 feet upstream of County Road 1400 East | *828 | +823
|  | Wakarusa River (left overbank flow) (City of Lawrence) | Approximately 200 feet downstream of Haskell Avenue | *824 | +818
| Douglas County (Incorporated Areas) | Washington Creek (Douglas County) | Just upstream of County Road 1200 East | *833 | +836
|  |  | Approximately 3800 feet upstream of County Road 1075 North | *845 | +846
|  |  | Just upstream of County Road 650 East | *905 | +908
|  | Washington Creek Tributary (Douglas County) | Approximately 850 feet downstream of County Road 1075 North | *837 | +842
|  |  | Approximately 200 feet downstream of Private Road | *860 | +858
|  |  | Approximately 2,600 feet upstream of County Road 900 North | *879 | +878
|  | Yankee Tank Creek (Douglas County) | Approximately 500 feet downstream of Kasold Drive | *832 | +831
|  | Yankee Tank Creek East Branch (City of Lawrence) | Approximately 1,650 feet upstream of Kasold Drive | *838 | +837
|  |  | Just downstream of Highway 10 | *851 | +850
|  |  | Approximately 400 feet downstream of West 15th Street | *883 | +881
|  | Yankee Tank Creek West Branch (Douglas County) | Approximately 4,700 feet downstream of South Lawrence Trafficway | N/A | +834
|  |  | Approximately 600 feet upstream of South Lawrence Trafficway | *842 | +843
|  | Yankee Tank Creek West Branch (City of Lawrence) | Approximately 4,700 feet downstream of South Lawrence Trafficway | N/A | +834
Maps are available for inspection at the Douglas County Department of Public Works, 1242 Massachusetts Street, Lawrence, Kansas.
Send comments to the Honorable Craig Weinaug, Douglas County Administrator, County Courthouse, 1100 Massachusetts Street, Lawrence, Kansas 66044.
Maps are available for inspection at the City of Lawrence Planning Department, 6 East Sixth Street, Lawrence, Kansas.
Send comments to the Honorable James R. Henry, Mayor, City of Lawrence, P.O. Box 708, Lawrence, Kansas 66044.
Maps are available for inspection at the City of Lecompton City Hall, 333 Elmore Street, Lecompton, Kansas.
Send comments to the Honorable Jeff Goodrick, Mayor, City of Lecompton, P.O. Box 100, Lecompton, Kansas 66050.
Maps are available for inspection at the City of Eudora City Hall, 4 East Seventh Street, Eudora, Kansas.
Send comments to the Honorable Fred Stewart, Mayor, City of Eudora, P.O. Box 650, Eudora, Kansas 66025.
Maps are available for inspection at City of Baldwin City Hall, 803 Eighth Street, Baldwin, Kansas.
Send comments to the Honorable Stan Krysztof, Mayor, City of Baldwin, P.O. Box 86, Baldwin, Kansas 66006.
| El Dorado (City) (Butler County) | Constant Creek | Approximately 350 feet downstream of Sunset Road | *1,276 | $1,280
|  |  | Just downstream of Central Avenue | *1,313 | *1,311
|  |  | Approximately 700 feet upstream of 6th Street | *1,328 | *1,328
Maps are available at 220 East First Street, El Dorado, Kansas.
Send comments to the Honorable Susan Seeber, Mayor, City of El Dorado, 220 East First Street, El Dorado, Kansas 67042.
Kansas | Manhattan (City) Riley County | Kansas River | Approximately 3,600 feet downstream of State Highway 177 | *1,012 | *1,013
|  |  | Approximately 2,000 feet downstream of State Highway 177 (at County Boundary) | *1,014 | *1,015
|  |  | Approximately 1,600 feet upstream of State Highway 177 | *1,018 | *1,018
|  | Wildcat Creek | Just downstream of the Union Pacific Railroad | *1,020 | *1,020
|  |  | Just upstream of K-18 Highway | *1,020 | *1,025
|  |  | Approximately 9,200 feet upstream of confluence with Little Kitten Creek | None | *1,060
|  | Little Kitten Creek | Approximately 1,750 feet above confluence with Wildcat Creek | None | *1,055
|  |  | Approximately 3,700 feet upstream of Kimball Avenue | None | *1,144
|  | Virginia-Nevada Tributary | At confluence with Wildcat Creek | *1,036 | *1,038
|  |  | At upstream side of Dickens Avenue | *1,066 | *1,068
|  | CI-CO Tributary | At Anderson Avenue | None | *1,051
|  |  | Approximately 1,560 feet upstream of Clafin Road | *1,077 | *1,076
Maps are available for inspection at the Community Development Office, 1101 Poyntz Avenue, Manhattan, Kansas.
Send comments to The Honorable Roger Reitz, Mayor, City of Manhattan, 1101 Poyntz Avenue, Manhattan, Kansas, 66502-5497.
Kansas | Riley County (Unincorporated Areas) | Kansas River | At downstream county boundary | *990 | *990
|  |  | Approximately 5,700 feet upstream of confluence with Big Blue River | *1,012 | *1,013
|  |  | Approximately 11,800 feet downstream of the confluence Dry Branch | *1,040 | *1,041
|  |  | Approximately 1,000 feet downstream of State Highway 18 | *1,048 | *1,048
|  | Wildcat Creek | At confluence with Kansas River | *1,020 | *1,019
|  |  | Approximately 4,600 feet upstream of confluence with Little Kitten Creek | *1,056 | *1,055
|  |  | Approximately 1,000 feet downstream of North Scenic Drive | *1,062 | *1,062
|  | Little Kitten Creek | At confluence with Wildcat Creek | *1,050 | *1,051
|  |  | Just downstream of Anderson Avenue | *1,060 | *1,061
|  | Eureka Valley Tributary | At confluence with Sevenmile Creek | *1,034 | *1,034
|  |  | Approximately 300 feet upstream of State Highway 18 | 1,038 | *1,037
|  |  | Just downstream of Wildcat Creek Road | *1,074 | *1,073
|  | CI-CO Tributary | At confluence with Wildcat Creek | None | *1,045
|  |  | Just upstream of Missouri, Kansas, and Texas Railroad | None | *1,051
Maps are available for inspection at the Riley County Planning and Zoning Office, 110 Courthouse Plaza, Manhattan, Kansas.
Send comments to The Honorable Jim Williams, Chairman, Riley County Board of Commissioners, 110 Courthouse Plaza, Manhattan, Kansas 66502.
New Mexico | Dona Ana County (Unicorporated Areas) | Sanhill Arroyo | At Dona Ana Drain | None | *3,909
|  |  | Approximately 1,360 feet upstream of Thurmand Road | None | *4,336
|  |  | At Intersection of McGuffey Street and Northgate Road | None | #2
|  |  | At Intersection of McGuffey Road and Benavidez Road | None | *4,340
|  |  | At intersection of Mesa Grande Drive and Answer Drive | None | #3
Maps are available for inspection at the Dona Ana Flood Commission, 430 South Main, Dona Ana Annex, Las Cruces, New Mexico.
Send comments to The Honorable Carlos Garza, Chairman, Dona Ana County Board of Commissioners, 180 West Amador Avenue, Las Cruces, New Mexico 88001.
Nex Mexico | Las Cruces (City) Dona Ana County | Sandhill Arroyo | Approximately 1,650 feet downstream of Elks Road | *3,974 | *3,977
|  |  | Approximately 1,060 feet downstream of Thurmand Road | None | *4,316
|  |  | At intersection of Village Drive and Central Avenue | None | #2
Maps are available for inspection at City Engineering Department, 575 South Alameda Boulevard, Las Cruces, New Mexico.
Send comments to The Honorable Rubin A. Smith, Mayor, City of Las Cruces, P.O. Box 2000, Las Cruces, New Mexico 88004.
New Mexico | Lovington (City) Lea County | Main Street Ditch | Just upstream of County Road | None | *3,890
|  |  | Just downstream of Jefferson Avenue | None | *3,917
|  | Railroad Ditch | Approximately 5,450 feet downstream of confluence with Railroad Ditch Tributary |  | *3,800
|  |  | Just downstream of Ninth Street | None | *3,911
|  | Railroad Ditch Tributary | Approximately 360 feet downstream of State Route 18 | None | *3,894
|  |  | Just downstream of Avenue R | None | *3,899
Maps are available for inspection at City Hall, 214 S. Love, Lovington, New Mexico.
Send comments to The Honorable Troy J. Harris, Mayor, City of Lovington, P.O. Box 1268, Lovington, New Mexico 88260.
New Mexico | Raton (City) Colfax County | Raton Creek | Approximately 3,360 feet downstream of Frontage Road | None | *6,541
|  |  | Approximately 1,560 feet Upstream of North Second Street | None | *6,705
|  | Middle Creek | Approximately 600 feet downstream of Interstate Highway 25 | None | *6,527
|  |  | At Atchison, Topeka and Santa Fe Railway Crossing | None | *6,633
|  | South Creek | Approximately 900 feet upstream of confluence with Middle Creek | None | *6,520
|  |  | Approximately 120 feet upstream of South Second Street (U.S. Highway 85) | None | *6,552
Maps are available for inspection at the Office of City Engineer, City Hall, 224 Savage Avenue, Raton, New Mexico.
Send comments to The Honorable Eric Honeyfield, City Manager, P.O. Box 910, Raton, New Mexico 87740.
South Dakota | Deadwood (City) Lawrence County | Whitewood Creek | Approximately 800 feet downstream of U.S. Highway 14-A | None | *4,394
|  |  | Approixmately 550 feet downstream of U.S.Highway 85 | *4,640 | *4,642
|  | Deadwood Creek | Approximately 1,225 feet upstream of Shine Street | *4,574 | None
|  |  | Just upstream of U.S.Highway 14-A | *4,630 | *4,640
|  |  | Approximately 1,550 feet Upstream of U.S. Highway 14-A | None | *4,658
|  | Spring Creek | At upstream end of culvert, approximately 400 feet upstream of North Williams Street | None | *4,580
|  |  | At western corporate limit, approximately 2,600 feet upstream of North Williams Street | None | *4,753
Maps are available for inspection at 102 Sherman Street, Deadwood, South Dakota.
Send comments to The Honorable Barb Allen, Mayor, City of Deadwood, 102 Sherman Street, Deadwood, South Dakota 57732.
Texas | Huntsville (City) Walker County | Alligator Branch | Approximately 4,200 feet upstream of confluence with Prairie Branch | None | *307
|  |  | Approximately 7,400 feet upstream of confluence with Prairie Branch | None | *323
|  | Baldwin Creek | Approximately 36,500 feet above confluence with Nelson Creek | None | *244
|  |  | Approximately 43,500 feet above confluence with Nelson Creek | None | *261
|  | Caney Creek | Approximately 1,900 feet upstream of confluence with Winters Bayou | None | *354
|  |  | Approximately 24,000 feet of confluence with Winters Bayou | None | *374
|  | Crabb Creek | Approximately 17,400 feet upstream of confluence Nelson Creek | None | *257
|  |  | Approximately 27,100 feet upstream of confluence Nelson Creek | None | *287
|  | East Fork | At confluence with Tanyard Branch | None | *271
|  |  | Approximately 5,500 feet upstream of confluence with Tanyard Branch | None | *298
|  | Ford Branch | At confluence with Wayne Creek | None | *272
|  |  | Approximately 2,700 feet upstream of confluence with Wayne Creek | None | *286
|  | Hadley Creek | At Rosenwall Road | None | *250
|  |  | Approximately 200 feet north of Huntsville Airport Runway | None | *292
|  | Horse Branch | At its confluence with Town Branch | None | *274
|  |  | Approximately 450 feet downstream of FM 2821 | *288 | *285
|  |  | Approximately 3,500 feet upstream of Holly Bend Road | *335 | *329
|  | Mays Creek | Approximately 2,600 feet upstream of confluence of Shepard Creek | None | *320
|  |  | Approximately 13,400 feet upstream of confluence of Shepherd Creek | None | *355
|  | McDonald Creek | Approximately 2,300 feet downstream of Sunset Lake Dam | None | *293
|  |  | Approximately 1,900 feet upstream of Spring Lake Dam | None | *376
|  | McGary Creek | Approximately 8,050 feet downstream of concluence with Tributary 6 | None | *279
|  |  | Approximately 9,700 feet upstream of confluence with Tributary 5 | None | *351
|  | Parker Creek | Approximately 10,500 feet upstream of confluence with Harmon Creek | None | *212
|  |  | Approximately 1,000 feet upstream of FM 247 | None | *279
|  | Prairie Branch | Approximately 14,800 feet upstream of confluence with East Sandy Creek | None | *287
|  |  | Approximately 800 feet upstream of Broadmoor Drive | None | *368
|  | Robinson Creek | Approximately 4,700 feet downstream of confluence with Tributary 4 | None | *283
|  |  | Approximately 16,350 feet upstream of confluence with Tributary 4 | None | *362
|  | Shepherd Creek | Approximately 3,700 feet upstream of confluence with Mays Creek | None | *317
|  |  | Approximately 7,150 feet upstream of confluence with Tributary 3 | None | *381
|  | Sixmile Branch | Approximately 400 feet downstream of confluence with Thompson Branch | None | *253
|  |  | Approximately 1,400 feet upstream of confluence with Thompson Branch | None | *261
|  | Tanyard Branch | Approximately 500 feet upstream of confluence with Harmony Creek | None | *224
|  |  | Approximately 2,600 feet upstream of State Highway 190 | None | *363
|  | Thompson Branch | At confluence with Sixmile Branch | None | *254
|  |  | Approximately 1,000 feet upstream of confluence with Sixmile Branch | None | *260
|  | Town Branch | At confluence with Parker Creek | None | *260
|  |  | Approximately 700 feet upstream of Avenue J and 14th Street | *359 | *361
|  | Tributary A | At confluence with Town Branch | *324 | *322
|  |  | Approximately 280 feet upstream of its confluence with Town Branch | *325 | *324
|  |  | Approximately 300 feet upstream of State Highway 30/190 | None | *338
|  | Tributary B | At confluence with Horse Branch | *308 | *307
|  |  | Approximately 800 feet upstream of Private Dam | *328 | *327
|  | Tributary 2 | At confluence with Tanyard Branch | None | *225
|  |  | Approximately 1,250 feet upstream of Robinson Road | None | *253
|  | Tributary 3 | At confluence with Shepherd Creek | None | *358
|  |  | Approximately 1,700 feet upstream of confluence with Shepherd Creek | None | *364
|  | Tributary 4 | At confluence with Robinson Creek | None | *293
|  |  | Approximately 7,800 feet upstream of confluence with Robinson Creek | None | *330
|  | Tributary 5 | At confluence with McGary Creek | None | *319
|  |  | Approximately 7,600 feet upstream of confluence with McGary Creek | None | *347
|  | Tributary 6 | At confluence with McGary Creek | None | *292
|  |  | Approximately 10,500 feet upstream of confluence with McGary Creek | None | *319
|  | Tributary 7 | Approximately 14,800 feet upstream of confluence with Hadley Creek | None | *256
|  |  | Approximately 20,400 feet upstream of confluence with Hadley Creek | None | *275
|  | Tributary 8 | Approximately 3,700 feet upstream of confluence with Parker Creek | None | *217
|  |  | Approximately 8,000 feet upstream of confluence with Parker Creek | None | *231
|  | Tributary 9 | At confluence with Shepherd Creek | None | *332
|  |  | Approximately 6,700 feet upstream of confluence with Shepherd Creek | None | *347
|  | Wayne Creek | Approximately 2,100 feet upstream of confluence with Harmony Creek | None | *259
|  |  | Approximately 12,600 feet upstream of confluence with Harmony Creek | None | *298
Maps are available for inspection at City Service Center, 448 Highway 75 North, Huntsville, Texas.
Send comments to The Honorable Gene Pipes, City Manager, City of Huntsville, 1212 Avenue M, Huntsville, Texas 77340.
Utah | Utah County (Unincorporated Areas) | Jordan River | At downstream County boundary | *4,490 | *4,491
|  |  | At Cedar Fort Road | *4,494 | *4,493
|  |  | Approximately 1,400 feet upstream of Saratoga Road | *4,495 | *4,492
Maps are available for inspection at the Community Development Department, 100 E. Center Street, Room 3800, Provo, Utah.
Send comments to The Honorable Jerry D. Grover, Utah County Commission Chairman, 100 East Center Street, Room 2300, Provo, Utah 84606.
* Elevation is in NGVD. Add 0.3 foot (approximately) to the elevation in NGVD to obtain the elevation in NAVD.
** Elevation is in NGVD. Add 0.4 foot (approximately) to the elevation in NGVD to obtain the elevation in NAVD.
+ Elevation in feet (NAVD 1988).

(Catalog of Federal Domestic Assistance No. 83.100, “Flood Insurance.”)
Dated: October 30, 2000.
Margaret E. Lawless,
Deputy Associate Director for Mitigation.

[FR Doc. 00-28258 Filed 11-2-00; 8:45 am]

BILLING CODE 6718-04-P